NUCLEAR REGULATORY COMMISSION

[NRC-2022-0001]

Sunshine Act Meetings

TIME AND DATE: Weeks of April 18, 25, May 2, 9, 16, 23, 2022. All listed meeting times (see MATTERS TO BE CONSIDERED) are local to the meeting location. The schedule for Commission meetings is subject to change on short notice. The NRC Commission Meeting Schedule can be found on the internet at: https://www.nrc.gov/public-involve/public-meetings/schedule.html.

PLACE: Multiple locations (see MATTERS TO BE CONSIDERED). The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

STATUS: Public and Closed (see MATTERS TO BE CONSIDERED).

Members of the public may request to receive the information in these notices electronically. If you would like to be added to the distribution, please contact the Nuclear Regulatory Commission, Office of the Secretary, Washington, DC 20555, at 301-415-1969, or by email at Wendy.Moore@nrc.gov or Betty.Thweatt@nrc.gov.

MATTERS TO BE CONSIDERED:

Week of April 18, 2022

Friday, April 22, 2022

2:30 p.m. Meeting with the Navajo Tribal Community Members of the Red Water Pond Road (Public) (Contact: Wesley Held: 301-287-3591)

Additional Information: The meeting will be held at the Red Water Pond Road Cha'a'oh (“Shade House”), New Mexico. The GPS coordinates for the meeting location are 35.68485338436599, -108.5433161361636. From Church Rock on State Route 566, head northeast for eleven miles. After driving past mile marker eleven and Pipeline Road, the road bends to the left. Shortly after, you will soon see the Red Water Pond Road sign. Take a right hand turn off State Route 566 onto Red Water Pond Road, which is an all-dirt road. The meeting location is about a quarter mile on the right. Pursuant to Navajo Public Health Order 2022-05, reopening status is currently set at “yellow” (moderate transmission of COVID-19) and the Red Water Pond Road Community Meeting facility will be allowed to seat up to 50 persons. The grounds surrounding the facility will be set up for additional participants in a “drive-in” setting where participants remain in their vehicles during the broadcast of the meeting via public address/sound system. In addition, all individuals 2 years of age and older shall wear masks while in public where the individual could come within 6 feet of someone who is not from the individual's household.

6:30 p.m. Discussion of the Ten-Year Plan to Address Impacts of Uranium Contamination on the Navajo Nation and Lessons Learned from the Remediation of Former Uranium Mill Sites (Public) (Contact: Wesley Held: 301-287-3591)

Additional Information: On April 1 and April 4, 2022, the Commission voted to approve changing the start time of the meeting from 6:00 p.m. to 6:30 p.m. The meeting will be held at the Hilton Garden Inn, 1530 W Maloney Ave., Gallup, New Mexico. The public is invited to attend the Commission's meeting live by webcast at the Web address— https://video.nrc.gov/ or by teleconference (Dial-in number: 800-369-2047; Passcode: 6097034).

Week of April 25, 2022—Tentative

Tuesday, April 26, 2022

10:00 a.m. Briefing on the Annual Threat Environment (Closed Ex. 1)

Thursday, April 28, 2022

10:00 a.m. Executive Branch Briefing on NRC International Activities (Closed Ex. 1 & 9)

Week of May 2, 2022—Tentative

There are no meetings scheduled for the week of May 2, 2022.

Week of May 9, 2022—Tentative

Tuesday, May 10, 2022

9:00 a.m. Strategic Programmatic Overview of the Fuel Facilities and the Spent Fuel Storage and Transportation Business Lines (Public) (Contact: Jenny Weil: 301-415-1024)

Additional Information: The meeting will be held in the Commissioners' Conference Room, 11555 Rockville Pike, Rockville, Maryland. The public is invited to attend the Commission's meeting live by webcast at the Web address— https://video.nrc.gov/ .

Thursday, May 12, 2022

10:00 a.m. Briefing on Advanced Reactors Activities with Federal Partners (Public) (Contact: Caty Nolan: 301-287-1535)

Additional Information: The meeting will be held in the Commissioners' Conference Room, 11555 Rockville Pike, Rockville, Maryland. The public is invited to attend the Commission's meeting live by webcast at the Web address— https://video.nrc.gov/.

Week of May 16, 2022—Tentative

There are no meetings scheduled for the week of May 16, 2022.

Week of May 23, 2022—Tentative

There are no meetings scheduled for the week of May 23, 2022.

CONTACT PERSON FOR MORE INFORMATION: For more information or to verify the status of meetings, contact Wesley Held at 301-287-3591 or via email at Wesley.Held@nrc.gov.

The NRC is holding the meetings under the authority of the Government in the Sunshine Act, 5 U.S.C. 552b.

Dated: April 13, 2022.
For the Nuclear Regulatory Commission.
Wesley W. Held,
Policy Coordinator, Office of the Secretary.

[FR Doc. 2022-08231 Filed 4-13-22; 11:15 am]

BILLING CODE 7590-01-P